DEPARTMENT OF TRANSPORTATION

Federal Aviation Administration

Solicitation of Nominations for Appointment to the Drone Advisory Committee

AGENCY: Federal Aviation Administration, U.S. Department of Transportation.

ACTION: Solicitation of Nominations for Appointment to the Drone Advisory Committee (DAC).

SUMMARY: The FAA is issuing this notice to solicit nominations for membership on the Drone Advisory Committee (DAC).

DATES: Nominations must be received no later than 6:00 a.m. Eastern Time on August 18, 2020. Nominations received after the above due date may be retained for evaluation for future DAC vacancies after all other nominations received by the due date have been evaluated and considered.

ADDRESSES: Nominations can be submitted electronically (by email) to Khurram Abbas in the FAA's UAS Integration Office, at khurram.abbas@faa.gov. The subject line should state “2020 DAC Nomination.” The body of the email must contain content or attachments that address all requirements as specified in the below “Materials to Submit” section. Incomplete/partial submittals as well as those that exceed the specified document length may not be considered for evaluation. An email confirmation from the FAA will be sent upon receipt of all complete nominations that meet the criteria in the “Materials to Submit” section. Anyone wishing to submit an application by paper may do so by contacting Khurram Abbas at khurram.abbas@faa.gov or 202-267-8345. The FAA will notify those appointed by the Secretary to serve on the DAC in writing.

FOR FURTHER INFORMATION CONTACT: Contact Khurram Abbas at khurram.abbas@faa.gov or 202-267-8345. Additional information on the DAC, including the current roster, charter, and previous meeting minutes can be found at: https://www.faa.gov/uas/programs_partnerships/drone_advisory_committee/.

SUPPLEMENTARY INFORMATION:

Background

The DAC is an advisory committee established under DOT's authority, in accordance with the provisions of the Federal Advisory Committee Act (FACA) as amended, Public Law 92-463, 5 U.S.C. App. 2. The objective of the DAC is to provide independent advice and recommendations to the FAA and in response to specific taskings received directly from the FAA. The advice and recommendations work toward improving the efficiency and safety of integrating Unmanned Aircraft Systems (UAS) into the National Airspace System (NAS). In response to FAA requests, the DAC may provide the FAA with information that may be used for tactical and strategic planning purposes.

This notice seeks to fill current and future vacancies on the DAC and does not affect the status of current DAC members' terms.

Description of Duties

The DAC acts solely in an advisory capacity and does not exercise program management responsibilities. Decisions directly affecting implementation of transportation policy will remain with the FAA Administrator and the Secretary of Transportation. The DAC duties include:

a. Undertaking tasks only assigned by the FAA.

b. Deliberating on and approving recommendations for assigned tasks in meetings that are open to the public.

c. Responding to ad hoc informational requests from the FAA and/or providing input to the FAA on the overall DAC structure (including structure of the subcommittees and or task groups).

Membership: The FAA will submit recommendations for membership to the Secretary of Transportation, who will appoint members to the DAC. The membership must be fairly balanced in terms of points of view represented and the functions performed. The stakeholder groups represented on the DAC include the following:

a. Airports and Airport Communities

b. Labor (controllers, pilots)

c. Local Government

d. Navigation, Communication, Surveillance, and Air Traffic Management Capability Providers

e. Research, Development, and Academia

f. Traditional Manned Aviation Operators

g. UAS Hardware Component Manufacturers

h. UAS Manufacturers

i. UAS Operators

j. UAS Software Application Manufacturers

k. Other

All DAC members serve at the pleasure of the Secretary of Transportation. The DAC will have no more than 35 members. Other membership criteria include:

a. An appointment of up to two years.

b. Service without charge and without government compensation. Representation of a particular interest of employment, education, experience, or affiliation with a specific aviation related organization.

c. Ability to attend all DAC meetings (estimated three meetings per year).

Qualifications: Candidates must be in good public standing and currently serve as a member of their organization's core senior leadership team with the ability to make UAS-related decisions. In rare circumstances, membership will be granted to uniquely qualified individuals who do not meet this latter requirement. Members appointed solely for their individual expertise serve as Special Government Employees.

Materials to Submit: Candidates are required to submit, in full, the following materials to be considered for DAC membership. Failure to submit the required information may disqualify a candidate from the review process.

a. A short biography of the nominee, including professional and academic credentials.

b. A résumé or curriculum vitae, which must include relevant job experience, qualifications, as well as contact information (email, telephone, and mailing address).

c. A one-page statement describing how the candidate will benefit the DAC, considering current membership and the candidate's unique perspective that will advance the conversation. This statement must also identify a primary and secondary interest to which the candidate's expertise best aligns. Finally, candidates should state their previous experience on Federal Advisory Committees and/or Aviation Rulemaking Committees (if any), their level of knowledge in their above stakeholder groups, and the size of their constituency they represent or are able to reach.

Up to three letters of recommendation may be submitted, but are not required. Each letter may be no longer than one page. Nominations are open to all individuals without regard to race, color, religion, sex, national origin, age, mental or physical disability, marital status, or sexual orientation. Evaluations will be based on the materials submitted.

Erik W. Amend,
Manager, Executive Office, AUS-10, UAS Integration Office, Federal Aviation Administration.

[FR Doc. 2020-13133 Filed 6-17-20; 8:45 am]

BILLING CODE 4910-13-P